DEPARTMENT OF ENERGY

Federal Energy Regulatory Commission

[Docket No. IC21-18-000]

Commission Information Collection Activities (FERC-725Y); Comment Request; Extension

AGENCY: Federal Energy Regulatory Commission.

ACTION: Notice of information collection and request for comments.

SUMMARY: In compliance with the requirements of the Paperwork Reduction Act of 1995, the Federal Energy Regulatory Commission (Commission or FERC) is soliciting public comment on a renewal of currently approved information collection FERC-725Y, Mandatory Reliability Standard (Personnel Performance, Training, and Qualifications), which will be submitted to the Office of Management and Budget (OMB) for review.

DATES: Comments on the collection of information are due August 6, 2021.

ADDRESSES: Send written comments on FERC-725Y to OMB through www.reginfo.gov/public/do/PRAMain. Attention: Federal Energy Regulatory Commission Desk Officer. Please identify the OMB Control Number (1902-0279) in the subject line of your comments. Comments should be sent within 30 days of publication of this notice to www.reginfo.gov/public/do/PRAMain.

Please submit copies of your comments to the Commission. You may submit copies of your comments (identified by Docket No. IC21-18-000) by one of the following methods:

Electronic filing through http://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) Delivery: Deliver to: Federal Energy Regulatory Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection. FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Ellen Brown may be reached by email at DataClearance@FERC.gov, telephone at (202) 502-8663.

SUPPLEMENTARY INFORMATION:

Title: FERC-725Y, Mandatory Reliability Standard (Personnel Performance, Training, and Qualifications).

OMB Control No.: 1902-0279.

Type of Request: Three-year extension of the FERC-725Y information collection requirements with no changes to the reporting requirements.

Abstract: The FERC-725Y information collection is intended to help ensure the safe and reliable operation of the interconnected grid through the retention of suitably trained and qualified personnel in positions that can impact the reliable operation of the Bulk-Power System. The Commission uses the FERC-725Y to implement the Congressional mandate of the Energy Policy Act of 2005 to develop mandatory and enforceable Reliability Standards to better ensure the reliability of the nation's Bulk-Power System. FERC-725Y ensures that personnel performing or supporting real-time operations on the Bulk Electric System (BES) are trained using a systematic approach. The Reliability Standard requires entities to maintain records subject to review by the Commission and North American Electric Reliability Corporation (NERC) to ensure compliance with the Reliability Standard.

Reliability Standard PER-005-2 (Operations Personnel Training) requires entities to maintain records subject to review by the Commission and NERC to ensure compliance with the Reliability Standard. This Reliability Standard contains of six Requirements:

• R1 requires reliability coordinators, balancing authorities, and transmission operators to develop and implement a training program for system operators

• R2 requires transmission owners to develop and implement a training program for system operators

• R3 requires reliability coordinators, balancing authorities, transmission operators and transmission owners to verify the capabilities of their identified personnel

• R4 requires reliability coordinators, balancing authorities, transmission operators and transmission owners to provide those personnel with emergency operations training using simulation technology

• R5 requires reliability coordinators, balancing authorities, and transmission operators develop and implement training for system operators whose job functions can impact BES real-time reliability tasks

• R6 requires applicable generator operators to develop and implement training for certain of their dispatch personnel at a centrally located dispatch center

Reliability Standard PER-006-1 (Specific Training for personnel) ensures that personnel are trained on specific topics essential to reliability to perform or support Real-Time operations of the Bulk Electric System.

• R1 identifies generator operator plant personnel responsible for Real-time control and carrying out Operating instructions are trained on the operational functionality of Protection Systems and Remedial Action Schemes that affect the output of generating facility(ies) it operates.

The 60-day Federal Register Notice ¹ published on April 21, 2021 and no comments were received during the comment period.

¹ 86 FR 20685.

Type of Respondents: Transmission owners and generator owners.

Estimate of Annual Burden: ² Our estimate below regarding the number of respondents is based on the NERC compliance registry as of February 5, 2021.

² Burden is defined as the total time, effort, or financial resources expended by persons to generate, maintain, retain, or disclose or provide information to or for a Federal agency. For further explanation of what is included in the information collection burden, reference 5 Code of Federal Regulations 1320.3.

The Commission estimates the additional annual reporting burden and cost as follows:

| Number and type of respondents ³ | Annual number of responses per respondent | Total number of responses | Average burden & cost per response ⁴ | Total annual burden hours & total annual cost ($) | Cost per respondent ($)
| (1) | (2) | (1) * (2) = (3) | (4) | (3) * (4) = (5) | (5) ÷ (1)
FERC-725Y in Docket No. IC21-18-000
Reliability Standard PER-005-2
Annual Evaluation and Update of Training Program (Reporting for all Req.) | (RC, BA, TOP, TO, GOP) 1,148 | 1 | 1,148 | 8 hrs.; $561.52 | 9,184 hrs.; $644,624.96 | $561.52
Retention of Records | (RC, BA, TOP, TO, GOP) 1,148 | 1 | 1,148 | 10 hrs.; $433.80 | 11,480 hrs.; $498,002.40 | $433.80
FERC-725Y (Reliability Standard PER-006-1)
GOP; Reporting Req. R1 | 937 ⁵ | 1 | 937 | 5 hrs.; $350.95 | 4,685 hrs.; $328,840.15 | $350.95
GOP; Recordkeeping Req. R1 | 937 | 1 | 937 | 10 hrs. $433.80 | 9,370 hrs.; $406,470.60 | $433.80
Total |  |  |  |  | 34,719 hrs.; $1,877,938.11 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

³ For PER-005-2 and PER-006-1: RC=Reliability Coordinator; BA=Balancing Authority; TOP=Transmission Operator; TO=Transmission Owner; GOP=Generator Operator. To eliminate counting the same number multiple times the figure reflects the number of US unique entities (1,148) accounts for overlaps between RC, BA, TOP, TO and GOP. The NERC compliance registry table February 5, 2021 was used preform analysis.

⁴ The estimates for cost per response are loaded hourly wage figure (includes benefits) is based on two occupational categories for 2020 found on the Bureau of Labor Statistics website (http://www.bls.gov/oes/current/naics2_22.htm):

• Electrical Engineer (Occupation Code: 17-2071): $70.19 (to calculate the reporting requirements).

• Office and Administrative Support (Occupation Code: 43-0000): $43.38 (to calculate the recordkeeping requirements).

⁵ The number of US unique GOPs is 937 taken from the NERC compliance registry information of February 5, 2021.

Dated: June 30, 2021.
Kimberly D. Bose,
Secretary.

[FR Doc. 2021-14476 Filed 7-6-21; 8:45 am]

BILLING CODE 6717-01-P